DEPARTMENT OF TRANSPORTATION

Federal Motor Carrier Safety Administration

[Docket No. FMCSA-2007-28043]

Hours of Service (HOS) of Drivers; Renewal of American Pyrotechnics Association (APA) Exemption From the 14-Hour Rule During Independence Day Celebrations

AGENCY: Federal Motor Carrier Safety Administration (FMCSA), DOT.

ACTION: Notice of final disposition.

SUMMARY: FMCSA previously announced its decision to renew the American Pyrotechnics Association (APA) exemption for 61 member motor carriers from FMCSA's regulation that drivers of commercial motor vehicles (CMVs) may not drive after the 14th hour after coming on duty. No comments were submitted to the public docket; consequently, the Agency confirms the renewal of the exemption.

DATES: This exemption is effective during the periods of June 28, 2009, through July 8, 2009, and June 28, 2010, through July 8, 2010, inclusive.

FOR FURTHER INFORMATION CONTACT: Mr. Thomas L. Yager, Chief, FMCSA Driver and Carrier Operations Division, Office of Bus and Truck Standards and Operations; Telephone: 202-366-4325, E-mail: MCPSD@dot.gov.

SUPPLEMENTARY INFORMATION:

Background

Under 49 U.S.C. 31315 and 31136(e), FMCSA may renew an exemption from the hours of service (HOS) requirements in 49 CFR 395.3(a)(2) for up to two years if it finds “such exemption would likely achieve a level of safety that is equivalent to, or greater than, the level that would be achieved absent such exemption” (49 CFR 381.305(a)). APA, a trade association representing the domestic fireworks industry, applied for renewal of a limited exemption from the HOS rules on behalf of 61 of its member motor carriers, and approximately 3,000 of their CMV drivers for an eleven-day period surrounding Independence Day in 2009, and a similar period in 2010, as previously announced in the Federal Register (74 FR 24069, May 22, 2009). A copy of the application is included in the docket referenced at the beginning of this notice. The list of APA member companies covered by the exemption from 49 CFR 395.3(a)(2) is included as an Appendix to this notice.

The HOS rules prohibit a property-carrying CMV driver from driving after the 14th hour after coming on duty following 10 consecutive hours off duty (49 CFR 395.3(a)(2)). During the periods June 28-July 8, 2009, and June 28-July 8, 2010, inclusive, the companies named in the Appendix and approximately 3,000 CMV drivers employed by them, will be exempt from section 395.3(a)(2) if they are operating in conjunction with the staging of fireworks shows celebrating Independence Day. These CMV drivers hold a commercial driver's license with hazardous materials endorsement. They also are trained pyrotechnicians. They transport fireworks and set up and stage fireworks shows.

Section 49 CFR 395.3(a)(2) prohibits a driver from driving after the 14th hour after coming on duty and does not permit off-duty periods to extend the 14-hour limit. This exemption permits CMV drivers engaged in these operations to exclude off-duty and sleeper-berth time of any length from the calculation of the 14-hour duty period. These drivers must continue to obtain 10 consecutive hours off duty prior to the 14-hour period, and remain subject to the 11-hour driving time limit, the 60- and 70-hour on-duty limits, and all other HOS rules.

APA sought renewal of this exemption because compliance by its members with the current 14-hour rule would impose a substantial economic hardship on numerous cities, towns and municipalities, as well as its member companies, with regard to their Independence Day celebrations. APA has consistently maintained that the operational demands of this unique industry minimize the risk of CMV crashes. It maintains that renewal of the exemption will not adversely affect the safety of the fireworks transportation provided by these motor carriers, and actually improve safety in the storage of hazardous materials.

The FMCSA decision to grant the request for renewal of the exemption from 49 CFR 395.3(a)(2) was based on the merits of the application for renewal of the exemption. The Agency continues to believe that these APA operations, conducted under the terms and conditions of this limited exemption, will achieve a level of safety that is equivalent to, or greater than, the level that would be absent such exemption. Unless these motor carriers and their drivers fail to meet the terms and conditions specified in the May 22, 2009, notice of approval of this exemption, the exemption will remain in effect during the periods of June 28, 2009, through July 8, 2009, and June 28, 2010, through July 8, 2010, inclusive.

Issued on: June 12, 2009.
Larry W. Minor,
Associate Administrator for Policy and Program Development.

Appendix to Notice of Renewal of American Pyrotechnics Association (APA) Exemption from the 14-Hour HOS Rule During 2009 and 2010 Independence Day Celebrations
Motor carrier | Address | DOT #
Alonzo Fireworks Display, Inc. | 12 County Rd 75, Mechanicsville, NY 12118 | 420639
American Promotional Events, Inc.—West/TNT Fireworks | 555 North Gilbert Street, Fullerton, CA 92833 | 564520
American Promotional Events, Inc.—East Coast/TNT Fireworks | 4511 Helton Drive, Florence, AL 35630 | 0121384
American Promotional Events—Northwest/TNT Fireworks | 2120 Milwaukee Way, Tacoma, WA 98421 | 013086
Arrowhead Fireworks Co., Inc. | 3625 Normanna Rd, Duluth, MN 55803 | 125673
Atlas Enterprises Inc. | 6601 Nine Mile Azle Rd, Fort Worth, TX 76135 | 0116910
Atomic Fireworks | 3660 W. Sunshine, Springfield, MO | 130200
Atomic Fireworks | 999 Sumter Highway, Bishopville, SC | 446835
Atomic Fireworks | PO Box 190, South Pittsburg, TN | 095166
B.J. Alan Company | 555 Martin Luther King, Jr Blvd., Youngstown, OH 44502 | 262140
Central States Fireworks, Inc. | 18034 Kincaid Street, Athens, IL 62613 | 1022659
Colonial Fireworks Company | 5225 Telegraph Road, Toledo, OH 43612 | 177274
Falcon Fireworks | 3411 Courthouse Road, Guyton, GA 31312 | 1037954
Fireworks & Stage FX America | PO Box 488, Lakeside, CA 92040 | 908304
Fireworks by Grucci, Inc. | 1 Grucci Lane, Brookhaven, NY 11719 | 324490
Fireworks Productions, Inc. | PO Box 294, Maryland Line, MD | 464796
Garden State Fireworks, Inc. | 383 Carlton Road, Millington, NJ 07946 | 435878
Galaxy Fireworks, inc. | 204 E MLK Jr Blvd, Tampa, FL 33603 | 809731
Gateway Fireworks Displays | PO Box 39327, St Louis, MO 63139 | 1325301
Global Pyrotechnics Solutions, Inc. | 10476 Sunset Drive, Dittmer, MO 63023 | 1183902
Hamburg Fireworks Display Inc. | 4300 Logan Lancaster Rd, Lancaster, OH | 395079
Ingram Enterprises dba Fireworks over America | 6597 W Independence Drive, Springfield, MO 65802 | 0268419
International Fireworks Mfg. Co. | 242 Sycamore Road, Douglasville, PA 19518 | 385065
Island Fireworks Company | N735 825th St, Hager City, WI 54014 | 414583
J&M Displays, Inc. | 18064 170th Ave, Yarmouth, IA 52660 | 377461
Jake's Fireworks/Fireworks Spectacular | 2311 A West 4th St, Pittsburg, KS 66762 | 449599
July 4 Ever | 382 Rock Cut Rd, Walden, NY 12586 | 803442
Kellner's Fireworks Inc. | 478 Old Rte 8, Harrisville, PA | 481553
Lantis Fireworks and Lasers | PO Box 491, Draper, UT 84202 | 195428
Lantis Fireworks Inc. | 130 Sodrac Dr, N Sioux City, DK 57049 | 534052
Legion Fireworks Co., Inc. | 10 Legion Lane, Wappingers Falls, NY 12590 | 554391
Lew's Fireworks, Inc. | 45788 US Hwy 212, Watertown, SD 57201 | 333792
Mad Bomber/Planet Productions | PO Box 294, Kingsbury, IN 46345 | 777176
Melrose Display Company | 7620 Little Mount Rd, Taylorsville, KY 40071 | 434586
Melrose North Pyrotechnics | 9405 River Rd SE, Clear Lake, MN 55319 | 434586
Melrose Pyrotechnics, Inc. | PO Box 302, Kingsbury, IN 46345 | 434586
Melrose South Pyrotechnics | 4652 Catawga River Rd, Catawga, SC 29704 | 545033
Montana Display Inc. | 9480 Inspiration Drive, Missoula, MT 59808 | 1030231
Precocious Pyrotechnics, Inc. | 4420-278th Ave NW, Belgrade, MN 56312 | 435931
Pyro Engineering Inc., dba/Bay Fireworks | 110 Route 110, Suite 102, Huntington Station, NY 11746 | 530262
Pyro Shows Inc. | 701 W. Central Ave, LaFollette, TN 37766 | 456818
Pyro Spectaculars, Inc. | 3196 N Locust Ave, Rialto, CA 92376 | 029329
Pyrotechnics by Presutti, Inc. | PO Box 42, St Clairsville, OH 43950 | 51974
Pyrotecnico | 302 Wilson Rd., New Castle, PA 16105 | 526749
Pyrotecnico of Louisiana, LLC | 60 West Ct, Mandeville, LA 70471 | 548303
RES Specialty Pyrotechnics | 21595 286th St, Belle Plaine, MN 56011 | 523981
Rich Brothers Company | 700 S Marion Rd, Sioux Falls, SD 57106 | 001356
Rozzi's Famous Fireworks, Inc. | 11605 North Lebanon Rd, Loveland, OH 45140 | 0483686
Skyworks, Ltd. | 13513 W. Carrier Rd., Carrier, OK 73727 | 1421047
Spielbauer Fireworks Co, Inc. | 220 Roselawn Blvd, Green Bay, WI 54301 | 046479
Stonebraker-Rocky Mountain Fireworks Co. | 5650 Lowell Blvd, Unit E, Denver, CO 80221 | 0029845
Thunder Fireworks | 5207 187th St, E, Tacoma, WA 98446 | 463284
Vermont Fireworks Co., Inc./Northstar Fireworks Co., Inc. | 2235 Vermont Route 14 South, East Montpelier, VT 05651 | 310632
Wald & Co., Inc. | PO Box 319, Greenwood, MO 64034 | 087079
Walt Disney Entertainment | 5700 Maple Road, Lake Buena Vista, FL 32830 | 148477
Western Enterprises, Inc. | PO Box 160, Carrier, OK 73727 | 203517
Western Fireworks, Inc. | 14592 Ottaway Rd. NE, Aurora, OR 97002 | 838585
Winco Fireworks Int. LLC | 1992 NW Hwy 50, Lone Jack, MO | 259688
Wolverine Fireworks Display, Inc. | 205 W Seidlers, Kawkawlin, MI | 376857
Young Explosives Corp. | PO Box 18653, Rochester, NY | 450304
Zambelli Fireworks MFG, Co., Inc. | PO Box 1463, New Castle, PA 16103 | 033167

[FR Doc. E9-14464 Filed 6-18-09; 8:45 am]

BILLING CODE 4910-EX-P